DEPARTMENT OF ENERGY

Federal Energy Regulatory Commission

[Docket No. EC96-2-003, et al.]

Public Service Company of Colorado, et al.; Electric Rate and Corporate Filings

July 29, 2004.

The following filings have been made with the Commission. The filings are listed in ascending order within each docket classification.

1. Public Service Company of Colorado and Southwestern Public Service Company

[Docket Nos. EC96-2-003]

Take notice that on July 20, 2004, Public Service Company of Colorado (PSCo) and Southwestern Public Service Company (SPS) submitted for Commission review a supplemental market power analysis which addresses the effects of a transmission interconnection that PSCo and SPS are constructing between their systems.

Comment Date: 5 p.m. eastern time on September 17, 2004.

2. Allegheny Energy, Inc., Allegheny Energy Supply Company, LLC

[Docket No. EC04-130-000]

Take notice that on July 26, 2004, Allegheny Energy, Inc. (Allegheny) and Allegheny Energy Supply Company, LLC (AE Supply) (collectively, Applicants) filed an application for disposition of jurisdictional facilities under section 203 of the Federal Power Act. Applicants request Commission approval to sell to Buckeye Power Generating, LLC (BPG) a wholly-owned subsidiary of Buckeye Power, Inc., an Ohio non-profit corporation, certain jurisdictional assets. The applicants have requested privileged treatment of certain agreements submitted in support of the application.

Comment Date: 5 p.m. eastern time on August 16, 2004.

3. Pittsfield Generating Company, L.P.

[Docket No. EC04-136-000]

Take notice that on July 27, 2004, Pittsfield Generating Company, L.P. (Pittsfield) submitted an application pursuant to section 203 of the Federal Power Act for authorization of a disposition of jurisdictional facilities whereby Altresco, Inc. (Altresco) and Pittsfield Partners, Inc. (PPI) will transfer their respective limited partner interests in Pittsfield to SFG CLA Pittsfield, LLC (SFG) or its affiliated nominees and assignees. Pittsfield states that it is a public utility and exempt wholesale generator in Massachusetts, with a nominal capacity of 163 MW. Pittsfield requested privileged treatment of certain agreements pertaining to a settlement entered into by, among others, Pittsfield, SFG, Altresco, PPI, and General Electric Capital Corporation, pursuant to which the transfer of limited partner interests will occur.

Comment Date: 5 p.m. eastern time on August 17, 2004.

4. White Pine Copper Refinery, Inc., White Pine Electric Power, L.L.C.

[Docket Nos. EC04-137-000 and ER04-1047-000]

Take notice that on July 27, 2004, White Pine Copper Refinery, Inc. (White Pine Copper) and White Pine Electric Power, L.L.C. (White Pine Electric) (collectively, the Applicants), filed with the Federal Energy Regulatory Commission an application for authorization under sections 203 and 205 of the Federal Power Act to transfer, by a sale of assets for nominal amount, market based rate authority and certain jurisdictional facilities, to establish rate schedule and to cancel rate schedule. White Pine Copper seeks approval for an intra-corporate transfer of jurisdictional facility assets to White Pine Electric. The Applicant states that transfer of assets is related to White Pine Copper's concurrent disposition to White Pine Electric of three coal-fired steam-turbine generating units located in White Pine, MI, capable of delivering a total of 60 MW. Additionally, White Pine Electric seeks approval of its market-based rate tariff in order to make wholesale electric power and energy sales. Lastly, White Pine Copper seeks approval to cancel its market-based tariff, approved in Docket No. ER04-262-000, by letter order dated January 1, 2004.

Comment Date: 5 p.m. eastern time on August 17, 2004.

5. White Pine Electric Power, L.L.C.

[Docket No. EG04-87-000]

Take notice that on July 27, 2004, White Pine Electric Power, L.L.C. (White Pine), P.O. Box 695, 1 Willow Road, White Pine, MI 49971, filed with the Federal Energy Regulatory Commission an application for determination of exempt wholesale generator status pursuant to part 365 of the Commission's regulations and section 32(a)(1) of the Public Utility Holding Company Act of 1935. White Pine states that it is a limited liability company organized under the laws of Delaware that will be engaged directly and exclusively in the business of owning and/or operating eligible facilities in the United States and selling electric energy at wholesale. White Pine states that it proposes to operate three 20 MW coal-fired steam-turbines, in an electric generating facility located in White Pine, Michigan.

Comment Date: 5 p.m. eastern time on August 17, 2004.

6. Public Service Company of Colorado

[Docket No. ER03-971-005]

Take notice that, on July 26, 2004, Public Service Company of Colorado (PS Colorado) tendered for filing revised power sales agreements with Holy Cross Electric Association, Inc., Yampa Valley Electric Association, Inc., Grand Valley Rural Power Lines, Inc., the Town of Julesburg, Colorado, the City of Burlington, Colorado and the Town of Center, Colorado in compliance with the Commission's order issued February 27, 2004, in Docket No. ER03-971-000, et al. PS Colorado states that the revised agreements are a result of settlements between them and these wholesale customers.

PS Colorado states that copies of the filing were served on parties on the official service list in the above-captioned proceeding, as well as on the Colorado Public Utility Commission.

Comment Date: 5 p.m. eastern time on August 16, 2004.

7. Sierra Pacific Resources Operating Companies

[Docket No. ER03-1328-002]

Take notice that on July 26, 2004 Sierra Pacific Resources Operating Companies (SPR) submitted a refund report in compliance with the Commission's order issued July 8, 2004, in Docket No. ER03-1328-000, 108 FERC ¶ 61,023.

Comment Date: 5 p.m. eastern time on August 16, 2004.

8. PacifiCorp

[Docket No. ER04-767-002]

Take notice that on July 26, 2004, PacifiCorp, submitted a compliance filing pursuant to the Commission's order issued June 25, 2004, in Docket No. ER04-767-000, 107 FERC ¶ 61,318.

Comment Date: 5 p.m. eastern time on August 16, 2004.

9. PJM Interconnection, L.L.C.

[Docket No. ER04-1039-000]

Take notice that on July 23, 2004, PJM Interconnection, L.L.C. (PJM), submitted for filing an executed interconnection service agreement among PJM, National Institute of Health, and Potomac Electric Power Company designated as Original Service Agreement No. 1049 under PJM's FERC Electric Tariff Sixth Revised Volume No. 1. PJM requests an effective date of June 23, 2004.

PJM states that copies of this filing were served upon the parties to the agreement and the State regulatory commissions within the PJM region.

Comment Date: 5 p.m. eastern time on August 13, 2004.

10. PJM Interconnection, L.L.C.

[Docket No. ER04-1040-000]

Take notice that on July 23, 2004, PJM Interconnection, L.L.C. (PJM), submitted for filing an executed interim interconnection service agreement (ISA) among PJM, Calvert Cliffs Nuclear Power Plant, Inc. and Baltimore Gas and Electric Company designated Original Service Agreement No. 1050 under PJM's FERC Electric Tariff Sixth Revised Volume No. 1. PJM requests an effective date of June 23, 2004.

PJM states that copies of this filing were served upon the parties to the agreement and the State regulatory commissions within the PJM region.

Comment Date: 5 p.m. eastern time on August 13, 2004.

11. NorthWestern Corporation

[Docket No. ES04-43-000]

Take notice that on July 26, 2004, NorthWestern Corporation (NorthWestern) submitted an application pursuant to section 204 of the Federal Power Act seeking authorization to issue: (1) Debt comprised of a senior secured credit facility in an amount up to $250 million and senior secured notes in an amount up to $350 million, which, collectively, will be secured by up to $600 million of first mortgage bonds; and (2) up to 35.5 million shares of common stock. NorthWestern also requests a waiver from the Commission's competitive bidding and negotiated placement requirements at 18 CFR 34.2.

Comment Date: 5 p.m. eastern time on August 6, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “Filing” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1731 Filed 8-4-04; 8:45 am]

BILLING CODE 6717-01-P